NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 2, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: requestschedule@nara.gov. FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Cooperative State Research, Education, and Extension Service (N1-540-06-05, 30 items, 21 temporary items). Program management records, including multistate research project files, panelist conflict-of-interest and confidentiality records, research misconduct records, portfolio assessment records, performance assessment records, plan of work approval documents, plan of work system monitoring and maintenance documentation, and records of internal committees responsible for making administrative policy decisions. Proposed for permanent retention are recordkeeping copies of calendar and scheduling records of the Agency Administrator, final plan of work records, 4-H youth enrollment reports, program development records, and records of internal committees responsible for making mission-related policy decisions.

2. Department of the Army, Agency-wide (N1-AU-07-10, 6 items, 6 temporary items). Records relating to the administration of visual information activities and Army Web sites. Included are production and distribution program approvals, activities reports, requests for video teleconferencing services, and Web site program development logs and usage files. This schedule authorizes the agency to apply the proposed disposition instructions to any recordkeeping medium.

3. Department of Homeland Security, Headquarters (N1-563-07-1, 1 item, 1 temporary item). Master file of an electronic information system used to manage and track electronic copies of correspondence and related materials from executive-level offices. Paper recordkeeping copies are proposed as permanent in a separate schedule.

4. Department of Homeland Security, Headquarters (N1-563-08-5, 1 item, 1 temporary item). Recordings of unclassified telephone calls made by law enforcement personnel, emergency responders, and the public to the National Operations Center about emergency events and potential threats. This schedule authorizes the agency to apply the proposed disposition instructions to any recordkeeping medium.

5. Department of Homeland Security, Science and Technology Directorate (N1-563-07-21, 2 items, 2 temporary items). Master file for an electronic information system used to provide information, resources, and technology solutions that address mission capability gaps identified by the emergency response community. This schedule authorizes the agency to apply the proposed disposition instructions to any recordkeeping medium.

6. Department of Homeland Security, U.S. Citizenship and Immigration Services (N1-566-08-2, 4 items, 4 temporary items). Inputs, outputs, master file, and documentation associated with an electronic information system containing demographic information and fingerprints used to conduct background checks on immigrants. This schedule authorizes the agency to apply the proposed disposition instructions to any recordkeeping medium.

7. Department of Homeland Security, U.S. Citizenship and Immigration Services (N1-566-08-3, 4 items, 4 temporary items). Inputs, outputs, master file, and documentation associated with an electronic information system used to transmit demographic information, fingerprints, and biometric data to the Federal Bureau of Investigation for background checks on immigrants. This schedule authorizes the agency to apply the proposed disposition instructions to any recordkeeping medium.

8. Department of Justice, Justice Management Division (N1-60-08-3, 4 items, 4 temporary items). Inputs, outputs, and master file for an electronic information system, which monitors implementation of recommendations of the Inspector General. This schedule authorizes the agency to apply the proposed disposition instructions to any recordkeeping medium.

9. Department of Justice, Justice Management Division (N1-60-08-4, 4 items, 4 temporary items). Inputs, outputs, and master file for an electronic information system, which tracks department implementation of Government Accountability Office report recommendations. This schedule authorizes the agency to apply the proposed disposition instructions to any recordkeeping medium.

10. Department of Housing and Urban Development, Office of Public and Indian Housing (N1-207-07-2, 5 items, 5 temporary items). Correspondence, loan guarantee case files, publicity files, and property inspection appeal case files. This schedule authorizes the agency to apply the proposed disposition instructions to any recordkeeping medium.

11. Department of Labor, Office of the Assistant Secretary for Policy (N1-174-06-1, 25 items, 8 temporary items). Records include general correspondence, congressional correspondence, grant files, program files, background policy papers and special reports to Congress, administrative subject files, and Chief Economist subject files. Proposed for permanent retention are recordkeeping copies of deliverable products resulting from grant funding, policy review coordinating committee and policy review board reading files, policy planning board files, research reports, publications, historical office files, survey documentation files, and Chief Economist files. This schedule authorizes the agency to apply the proposed disposition instructions to any recordkeeping medium.

12. Department of State, Overseas Buildings Operations (N1-59-08-1, 20 items, 19 temporary items). Records documenting all aspects of funded overseas construction projects and major renovations and upgrade projects for overseas facilities, including design, engineering, and construction files. Proposed for permanent retention are historically significant drawings of overseas buildings. This schedule authorizes the agency to apply the proposed disposition instructions to any recordkeeping medium, for several items.

13. Department of Transportation, Federal Highway Administration (N1-406-08-1, 1 item, 1 temporary item). Records of the Office of Transportation Management consisting of the master file of an electronic information system containing threaded discussions on transportation topics, unofficial documents, and voluntary participant profiles.

14. Department of the Treasury, Internal Revenue Service (N1-58-08-6, 4 items, 4 temporary items). Records of the Associate General Counsel's Office relating to review of applications to change accounting methods and changes for schedules of ruling amounts.

15. Department of the Treasury, Treasury Inspector General for Tax Administration (N1-56-08-1, 5 items, 5 temporary items). Records of the Office of Audit, including audit reports, audit plans, and working papers. This schedule authorizes the agency to apply the proposed disposition instructions to any recordkeeping medium.

16. Department of the Treasury, Treasury Inspector General for Tax Administration (N1-56-08-2, 14 items, 11 temporary items). Records of the Office of Investigation, including confidential informant files, forensic lab records, and officer safety files. This schedule also increases the retention period for non-significant investigative files, previously approved for disposal. Proposed for permanent retention are the master file and system documentation for the Office's case management system. This schedule authorizes the agency to apply the proposed disposition instructions to any recordkeeping medium. The schedule also provides for permanent retention in any recordkeeping medium, of significant investigative case files, previously approved as permanent in paper format.

17. Environmental Protection Agency, Headquarters (N1-412-07-57, 2 items, 2 temporary items). Scientific project files for studies that provide demonstration or proof of concept or coordination of scientific issues for the Office of Prevention, Pesticides, and Toxic Substances. This schedule authorizes the agency to apply the proposed disposition instructions to any recordkeeping medium.

18. Environmental Protection Agency, Office of Water (N1-412-08-7, 2 items, 2 temporary items). This schedule authorizes the agency to apply existing disposition instructions to records regardless of recordkeeping medium. The records consist of supporting files for final plans and annual and biennial water quality planning and management reports (final plans and annual and biennial reports themselves are permanent) and public water supply drinking water management and direct implementation files. Paper recordkeeping copies of these files were previously approved for disposal.

19. Federal Maritime Commission, Office of the Inspector General (N1-358-08-2, 3 items, 3 temporary items). Records consisting of investigative case files and audit case files. This schedule authorizes the agency to apply the proposed disposition instructions to any recordkeeping medium.

20. Federal Maritime Commission, Office of Administration (N1-358-08-3, 5 items, 5 temporary items). Records consisting of Director's Office correspondence reading files, copies of audit case files, performance planning records, and performance and accountability report files. This schedule authorizes the agency to apply the proposed disposition instructions to any recordkeeping medium.

21. Federal Maritime Commission, Bureau of Certification and Licensing (N1-358-08-4, 1 item, 1 temporary item). Individual ocean transportation intermediary files including applications. This schedule authorizes the agency to apply the proposed disposition instructions to any recordkeeping medium.

22. National Surface Transportation Policy and Revenue Study Commission (N1-220-08-1, 5 items, 3 temporary items). Records including files relating to the commission's day-to-day activities, Web design and management records, and electronic version of Web content records duplicated in textual series of commission records. Proposed for permanent retention are recordkeeping copies of files documenting the commission's establishment, membership, policy, organization, deliberations, findings and recommendations, and electronic versions of the commission Web site. This schedule authorizes the agency to apply the proposed disposition instructions to any recordkeeping medium, except for Web content records.

Dated: March 27, 2008.
Michael J. Kurtz,
Assistant Archivist for Records Services—Washington, DC.

[FR Doc. E8-6855 Filed 4-1-08; 8:45 am]

BILLING CODE 7515-01-P